DEPARTMENT OF TRANSPORTATION

Office of the Secretary

Aviation Proceedings, Agreements Filed During the Week Ending December 22, 2000

The following Agreements were filed with the Department of Transportation under the provisions of 49 U.S.C. sections 412 and 414. Answers may be filed within 21 days after the filing of the application.

Docket Number: OST-2000-8563.

Date Filed: December 19, 2000.

Parties: Members of the International Air Transport Association.

Subject: PTC31 N&C/CIRC 0139 dated 14 November 2000 r1-2, PTC31 N&C/CIRC 0140 dated 14 November 2000 r3-r9, PTC31 N&C/CIRC 0141 dated 14 November 2000 r10-r29, PTC31 N&C/CIRC 0142 dated 14 November 2000 r30-r45, PTC31 N&C/CIRC 0145 dated 21 November 2000 (Technical Correction), PTC31 N&C/CIRC 0148 dated 8 December 2000 (Technical Correction), Minutes—PTC31 N&C/CIRC 0149 dated 15 December 2000, PTC31 N&C/CIRC 0151 dated 19 December 2000 (Correction), Tables—PTC31 N&C/CIRC Fares 0060 dated 17 November 2000, PTC31 N&C/CIRC Fares 0061 dated 17 December 2000, PTC31 N&C/CIRC Fares 0062 dated 17 December 2000, PTC31 N&C/CIRC Fares 0065 dated 21 November 2000 (Technical Correction), PTC31 N&C/CIRC Fares 0066 dated 21 November 2000 (Technical Correction), PTC31 N&C/CIRC Fares 0077 dated 1 December 2000 (Technical Correction), PTC31 N&C/CIRC Fares 0078 dated 8 December 2000 (Technical Correction), PTC31 N&C/CIRC Fares 0079 dated 8 December 2000 (Technical Correction), Intended effective date: April 2001.

Docket Number: OST-2000-8564.

Date Filed: December 19, 2000.

Parties: Members of the International Air Transport Association.

Subject: PTC31 N&C/CIRC 0143 dated 14 November 2000, TC31 North & Central Pacific—TC3-Central America, South America r1-19, Tables—PTC31 N&C/CIRC Fares 0063 dated 17 November 2000, Intended effective date: 1 April 2001.

Docket Number: OST-2000-8565.

Date Filed: December 19, 2000.

Parties: Members of the International Air Transport Association.

Subject: PTC31 N&C/CIRC 0144 dated 14 November 2000 r1-15, PTC31 N&C/CIRC 0146 dated 1 December 2000 (Technical Correction), Minutes—PTC31 N&C/CIRC 0150 dated 15 December 2000, Tables—PTC31 N&C/CIRC Fares 0064 dated 17 November 2000, Intended effective date: 1 April 2001.

Docket Number: OST-2000-8566.

Date Filed: December 21, 2000.

Parties: Members of the International Air Transport Association.

Subject: PTC COMP Fares 0216 dated 19 December 2000, TC12/TC123 North Atlantic-Resolution 015n USA, Add-on Amounts, Report—PTC COMP 0739 dated 19 December 2000, Intended effective date: 1 February 2001.

Dorothy Y. Beard,
Federal Register Liaison.

[FR Doc. 01-2970 Filed 2-2-01; 8:45 am]

BILLING CODE 4910-62-P